DEPARTMENT OF HOUSING AND URBAN DEVELOPMENT

[Docket No. FR-5045-N-46]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Ezzell, Room 7266, Department of Housing and Urban Development, 451 Seventh Street, SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to John Hicks, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Headquarters, Department of the Army, Office of the Assistant Chief of Staff for Installation Management, Attn: DAIM-ZS, Rm 8536, 2511 Jefferson Davis Hwy, Arlington, VA 22202; (703) 601-2520; COE: Ms. Shirley Middleswarth, Army Corps of Engineers, Office of Counsel, CECC-R, 441 G Street, NW., Washington, DC 20314-1000; (202) 761-1295; GSA: Mr. John Kelly, Acting Deputy Assistant Commissioner, General Services Administration, Office of Property Disposal, 18th & F Streets, NW., Washington, DC 20405; (202) 501-0084; NAVY: Mr. Warren Meekins, Associate Director, Department of the Navy, Real Estate Services, Naval Facilities Engineering Command, Washington Navy Yard, 1322 Patterson Ave., SE., Suite 1000, Washington, DC 20374-5065; (202) 685-9305; (These are not toll-free numbers).

Dated: November 9, 2006.
Mark R. Johnston,
Acting Deputy Assistant Secretary for Special Needs.

Title V, Federal Surplus Property Program

Federal Register Report for 11/17/06

Suitable/Available Properties

Buildings (by State)

Illinois

Bldg. 912

Naval Station

Great Lakes Co: IL 60088-

Landholding Agency: Navy

Property Number: 77200640030

Status: Excess

Comment: 12,000 sq. ft., tailor shop, needs major repairs, presence of asbestos/lead paint, off-site use only

Land (by State)

Louisiana

Vacant Land

Former Barksdale AFB Radio Beacon

Bossier City Co: LA

Landholding Agency: GSA

Property Number: 54200640003

Status: Excess

Comment: 11.59 acres, floodplain

GSA Number: 7-GR-LA-04382

Unsuitable Properties

Buildings (by State)

Alabama

Bldg. 183

Anniston Army Depot

Anniston Co: AL 36201-

Landholding Agency: Army

Property Number: 21200640001

Status: Unutilized

Reason: Within 2000 ft. of flammable or explosive material

Bldg. 2801

Fort Rucker

Dale Co: AL 36362-

Landholding Agency: Army

Property Number: 21200640002

Status: Unutilized

Reason: Extensive deterioration

Bldg. 24263

Fort Rucker

Dale Co: AL 36362-

Landholding Agency: Army

Property Number: 21200640003

Status: Unutilized

Reason: Extensive deterioration

Bldgs. 26201, 26204

Fort Rucker

Dale Co: AL 36362-

Landholding Agency: Army

Property Number: 21200640004

Status: Unutilized

Reasons: Within airport runway clear zone; Extensive deterioration

Bldgs. 29105, 29109

Fort Rucker

Dale Co: AL 36362-

Landholding Agency: Army

Property Number: 21200640005

Status: Unutilized

Reason: Extensive deterioration

California

Bldgs. 00708, 00709

Fort Hunter Liggett

Monterey Co: CA 93928-

Landholding Agency: Army

Property Number: 21200640006

Status: Unutilized

Reason: Extensive deterioration

Bldg. PH546

Naval Base

Port Hueneme Co: Ventura CA 93043-

Landholding Agency: Navy

Property Number: 77200640027

Status: Unutilized

Reasons: Secured Area Extensive deterioration

Georgia

Bldg. 00262

Fort Benning

Ft. Benning Co: GA 31905-

Landholding Agency: Army

Property Number: 21200640007

Status: Excess

Reason: Extensive deterioration

Bldgs. 01138, 01182

Fort Benning

Ft. Benning Co: GA 31905-

Landholding Agency: Army

Property Number: 21200640008

Status: Excess

Reason: Extensive deterioration

Bldg. 01662

Fort Benning

Ft. Benning Co: GA 31905-

Landholding Agency: Army

Property Number: 21200640009

Status: Excess

Reason: Extensive deterioration

Bldgs. 01708, 01718

Fort Benning

Ft. Benning Co: GA 31905-

Landholding Agency: Army

Property Number: 21200640010

Status: Excess

Reason: Extensive deterioration

Bldgs. 01734, 01799

Fort Benning

Ft. Benning Co: GA 31905-

Landholding Agency: Army

Property Number: 21200640011

Status: Excess

Reason: Extensive deterioration

Bldgs. 02677, 03025

Fort Benning

Ft. Benning Co: GA 31905-

Landholding Agency: Army

Property Number: 21200640012

Status: Excess

Reason: Extensive deterioration

Bldgs. 04000, 04001, 04025

Fort Benning

Ft. Benning Co: GA 31905-

Landholding Agency: Army

Property Number: 21200640013

Status: Excess

Reason: Extensive deterioration

Bldgs. 08601, 08602, 08611

Fort Benning

Ft. Benning Co: GA 31905-

Landholding Agency: Army

Property Number: 21200640014

Status: Excess

Reason: Extensive deterioration

Bldg. 08741

Fort Benning

Ft. Benning Co: GA 31905-

Landholding Agency: Army

Property Number: 21200640015

Status: Excess

Reason: Extensive deterioration

Bldgs. 09030, 09031, 09032

Fort Benning

Ft. Benning Co: GA 31905-

Landholding Agency: Army

Property Number: 21200640016

Status: Excess

Reason: Extensive deterioration

Bldgs. 09033, 09034, 09035

Fort Benning

Ft. Benning Co: GA 31905-

Landholding Agency: Army

Property Number: 21200640017

Status: Excess

Reason: Extensive deterioration

Bldgs. 09037, 09038, 09042

Fort Benning

Ft. Benning Co: GA 31905-

Landholding Agency: Army

Property Number: 21200640018

Status: Excess

Reason: Extensive deterioration

Bldgs. 09059, 09060, 09061

Fort Benning

Ft. Benning Co: GA 31905-

Landholding Agency: Army

Property Number: 21200640019

Status: Excess

Reason: Extensive deterioration

4 Bldgs.

Fort Benning 09062, 09063, 09088, 09089

Ft. Benning Co: GA 31905-

Landholding Agency: Army

Property Number: 21200640020

Status: Excess

Reason: Extensive deterioration

Bldgs. 09101, 09103, 09105

Fort Benning

Ft. Benning Co: GA 31905-

Landholding Agency: Army

Property Number: 21200640021

Status: Excess

Reason: Extensive deterioration

Picnic Shelter

Strom Thurmond Project

Columbia Co: GA

Landholding Agency: COE

Property Number: 31200640001

Status: Unutilized

Reason: Extensive deterioration

5 Comfort Stations

Hart Co: GA

Location: HAR-16462, HAR-16728, HAR-18358, HAR-17247, HAR-18812

Landholding Agency: COE

Property Number: 31200640002

Status: Unutilized

Reason: Extensive deterioration

Radio Room

Walter F. George Lake

Ft. Gaines Co: GA 39851-

Landholding Agency: COE

Property Number: 31200640004

Status: Unutilized

Reason: Extensive deterioration

Hawaii

Bldg. 1226

Schofield Barracks

Wahiawa Co: HI 96786-

Landholding Agency: Army

Property Number: 21200640022

Status: Unutilized

Reason: Extensive deterioration

Illinois

Bldg. 3312

Naval Station

Great Lakes Co: IL 60085-

Landholding Agency: Navy

Property Number: 77200640028

Status: Excess

Reason: Secured Area

Bldg. 220

Naval Station

Great Lakes Co: IL 60085-

Landholding Agency: Navy

Property Number: 77200640029

Status: Excess

Reason: Secured Area

Kansas

Storage Bldg.

Perry Wildlife Area

Perry Co: KS 66073-

Landholding Agency: COE

Property Number: 31200640005

Status: Excess

Reason: Extensive deterioration

Water Treatment Plant

Old Town Area

Perry Co: KS 66073-

Landholding Agency: COE

Property Number: 31200640006

Status: Excess

Reason: Extensive deterioration

Water Treatment Plant

Sunset Ridge Area

Perry Co: KS 66073-

Landholding Agency: COE

Property Number: 31200640007

Status: Excess

Reason: Extensive deterioration

Water Treatment Plant

Perry Area

Perry Co: KS 66073-

Landholding Agency: COE

Property Number: 31200640008

Status: Excess

Reason: Extensive deterioration

Water Treatment Plant

Longview Park Area

Perry Co: KS 66073-

Landholding Agency: COE

Property Number: 31200640009

Status: Excess

Reason: Extensive deterioration

Shower

Longview Park Area

Perry Co: KS 66073-

Landholding Agency: COE

Property Number: 31200640010

Status: Excess

Reason: Extensive deterioration

Shower

Slough Creek Park Area

Perry Co: KS 66073-

Landholding Agency: COE

Property Number: 31200640011

Status: Excess

Reason: Extensive deterioration

Shower

Thompsonville Area

Perry Co: KS 66073-

Landholding Agency: COE

Property Number: 31200640012

Status: Excess

Reason: Extensive deterioration

Kentucky

Bldgs. 00474, 05943

Fort Knox

Ft. Knox Co: KY 40121-

Landholding Agency: Army

Property Number: 21200640023

Status: Unutilized

Reason: Extensive deterioration

Bldgs. 00230, 00234, 00731

Fort Campbell

Christian Co: KY 42223-

Landholding Agency: Army

Property Number: 21200640024

Status: Unutilized

Reason: Extensive deterioration

6 Bldgs.

Fort Campbell

Christian Co: KY 42223-

Location: 00853, 00854, 00855, 00857, 00858, 00860

Landholding Agency: Army

Property Number: 21200640025

Status: Unutilized

Reason: Extensive deterioration

Bldgs. 02104, 02159

Fort Campbell

Christian Co: KY 42223-

Landholding Agency: Army

Property Number: 21200640026

Status: Unutilized

Reason: Extensive deterioration

5 Bldgs.

Fort Campbell

Christian Co: KY 42223-

Location: 02170, 02172, 02174, 02176, 02178

Landholding Agency: Army

Property Number: 21200640027

Status: Unutilized

Reason: Extensive deterioration

Bldgs. 02182, 02186

Fort Campbell

Christian Co: KY 42223-

Landholding Agency: Army

Property Number: 21200640028

Status: Unutilized

Reason: Extensive deterioration

5 Bldgs.

Fort Campbell

Christian Co: KY 42223-

Location: 02203, 02204, 02205, 02206, 02207

Landholding Agency: Army

Property Number: 21200640029

Status: Unutilized

Reason: Extensive deterioration

Bldgs. 02301, 02402, 02842

Fort Campbell

Christian Co: KY 42223-

Landholding Agency: Army

Property Number: 21200640030

Status: Unutilized

Reason: Extensive deterioration

Bldgs. 05710, 05986

Fort Campbell

Christian Co: KY 42223-

Landholding Agency: Army

Property Number: 21200640031

Status: Unutilized

Reason: Extensive deterioration

Bldgs. 06222, 06891

Fort Campbell

Christian Co: KY 42223-

Landholding Agency: Army

Property Number: 21200640032

Status: Unutilized

Reason: Extensive deterioration

Bldgs. 212, 212A, 212B

Blue Grass Army Depot

Richmond Co: Madison KY 40475-

Landholding Agency: Army

Property Number: 21200640033

Status: Unutilized

Reason: Extensive deterioration

Bldgs. F0460, F0461, F0462

Blue Grass Army Depot

Richmond Co: Madison KY 40475-

Landholding Agency: Army

Property Number: 21200640034

Status: Unutilized

Reason: Secured Area

Bldg. 01154

Blue Grass Army Depot

Richmond Co: Madison KY 40475-

Landholding Agency: Army

Property Number: 21200640035

Status: Unutilized

Reason: Extensive deterioration

Louisiana

Bldgs. T1613, T1713, T1714

Fort Polk

Ft. Polk Co: LA 71459-

Landholding Agency: Army

Property Number: 21200640036

Status: Unutilized

Reason: Extensive deterioration

Bldgs. T2530, T2532, T2539

Fort Polk

Ft. Polk Co: LA 71459-

Landholding Agency: Army

Property Number: 21200640037

Status: Unutilized

Reason: Extensive deterioration

Bldg. S4638

Fort Polk

Ft. Polk Co: LA 71459-

Landholding Agency: Army

Property Number: 21200640038

Status: Unutilized

Reason: Extensive deterioration

Bldgs. T7103, T7104, T7105

Fort Polk

Ft. Polk Co: LA 71459-

Landholding Agency: Army

Property Number: 21200640039

Status: Unutilized

Reason: Extensive deterioration

Bldgs. T7142, T7143

Fort Polk

Ft. Polk Co: LA 71459-

Landholding Agency: Army

Property Number: 21200640040

Status: Unutilized

Reason: Extensive deterioration

Bldgs. T7604, T7606

Fort Polk

Ft. Polk Co: LA 71459-

Landholding Agency: Army

Property Number: 21200640041

Status: Unutilized

Reason: Extensive deterioration

Bldgs. T7608, T7609

Fort Polk

Ft. Polk Co: LA 71459-

Landholding Agency: Army

Property Number: 21200640042

Status: Unutilized

Reason: Extensive deterioration

Bldgs. T7614, T7621

Fort Polk

Ft. Polk Co: LA 71459-

Landholding Agency: Army

Property Number: 21200640043

Status: Unutilized

Reason: Extensive deterioration

Bldgs. T7641, T7642

Fort Polk

Ft. Polk Co: LA 71459-

Landholding Agency: Army

Property Number: 21200640044

Status: Unutilized

Reason: Extensive deterioration

Bldgs. T7731, T7839, P7841

Fort Polk

Ft. Polk Co: LA 71459-

Landholding Agency: Army

Property Number: 21200640045

Status: Unutilized

Reason: Extensive deterioration

Bldgs. T8006, T8045

Fort Polk

Ft. Polk Co: LA 71459-

Landholding Agency: Army

Property Number: 21200640046

Status: Unutilized

Reason: Extensive deterioration

Bldgs. T8050, T8087

Fort Polk

Ft. Polk Co: LA 71459-

Landholding Agency: Army

Property Number: 21200640047

Status: Unutilized

Reason: Extensive deterioration

Bldgs. T8246, T8443, T8533

Fort Polk

Ft. Polk Co: LA 71459-

Landholding Agency: Army

Property Number: 21200640048

Status: Unutilized

Reason: Extensive deterioration

Maryland

Bldg. 2205

Fort Meade

Ft. Meade Co: MD 20755-

Landholding Agency: Army

Property Number: 21200640049

Status: Unutilized

Reason: Extensive deterioration

Bldgs. 4201, 4203

Fort Meade

Ft. Meade Co: MD 20755-

Landholding Agency: Army

Property Number: 21200640050

Status: Unutilized

Reason: Extensive deterioration

Missouri

Bldg. 00645

Fort Leonard Wood

Pulaski Co: MO 65743-

Landholding Agency: Army

Property Number: 21200640051

Status: Unutilized

Reason: Extensive deterioration

Bldg. 02553

Fort Leonard Wood

Pulaski Co: MO 65743-

Landholding Agency: Army

Property Number: 21200640052

Status: Unutilized

Reason: Extensive deterioration

Dwelling

Harry S. Truman Project

Roscoe Co: MO

Landholding Agency: COE

Property Number: 31200640013

Status: Unutilized

Reason: Extensive deterioration

North Carolina

Bldgs. D1305, D1405

Fort Bragg

Ft. Bragg Co: NC 28310-

Landholding Agency: Army

Property Number: 21200640053

Status: Unutilized

Reason: Extensive deterioration

Bldgs. D1713, A3686, R5556

Fort Bragg

Ft. Bragg Co: NC 28310-

Landholding Agency: Army

Property Number: 21200640054

Status: Unutilized

Reason: Extensive deterioration

Bldgs. M6750, M6751, M6753

Fort Bragg

Ft. Bragg Co: NC 28310-

Landholding Agency: Army

Property Number: 21200640055

Status: Unutilized

Reason: Extensive deterioration

Bldgs. M6943, M6946

Fort Bragg

Ft. Bragg Co: NC 28310-

Landholding Agency: Army

Property Number: 21200640056

Status: Unutilized

Reason: Extensive deterioration

Bldgs. M6950, M6951, M6953

Fort Bragg

Ft. Bragg Co: NC 28310-

Landholding Agency: Army

Property Number: 21200640057

Status: Unutilized

Reason: Extensive deterioration

Bldg. M7033

Fort Bragg

Ft. Bragg Co: NC 28310-

Landholding Agency: Army

Property Number: 21200640058

Status: Unutilized

Reason: Extensive deterioration

Bldgs. M7240, M7243, M7248

Fort Bragg

Ft. Bragg Co: NC 28310-

Landholding Agency: Army

Property Number: 21200640059

Status: Unutilized

Reason: Extensive deterioration

Bldgs. M7250, M7253

Fort Bragg

Ft. Bragg Co: NC 28310-

Landholding Agency: Army

Property Number: 21200640060

Status: Unutilized

Reason: Extensive deterioration

Ohio

Bldg. 201

Defense Supply Center

Columbus Co: Franklin OH 43218-

Landholding Agency: Army

Property Number: 21200640061

Status: Unutilized

Reason: Secured Area

Oklahoma

Bldg.

Newt Graham Lock & Dam 18

Inola Co: OK

Landholding Agency: COE

Property Number: 31200640014

Status: Unutilized

Reason: Extensive deterioration

Bldg.

Kerr Lock & Dam 15

Sallisaw Co: OK 74955-

Landholding Agency: COE

Property Number: 31200640015

Status: Unutilized

Reason: Extensive deterioration

4 Bldgs.

Gore Co: OK 74435-

Location: Afton Landing or Bluff Landing

Landholding Agency: COE

Property Number: 31200640016

Status: Unutilized

Reason: Extensive deterioration

Pennsylvania

Bldgs. T2368, 03274

Letterkenny Army Depot

Chambersburg Co: PA 17201-

Landholding Agency: Army

Property Number: 21200640062

Status: Unutilized

Reasons: Secured Area; Extensive deterioration

Bldgs. 00026, 00123

Defense Distribution Depot

New Cumberland Co: York PA 17070-

Landholding Agency: Army

Property Number: 21200640063

Status: Unutilized

Reason: Extensive deterioration

South Carolina

4 Comfort Stations

Oconee Co: SC

Location: HAR-16113, HAR-16208, HAR-17689, HAR-18484

Landholding Agency: COE

Property Number: 31200640003

Status: Unutilized

Reason: Extensive deterioration

Tennessee

Bldg. I0011

Milan Army Ammo Plant

Milan Co: TN 38358-

Landholding Agency: Army

Property Number: 21200640064

Status: Excess

Reasons: Within 2000 ft. of flammable or explosive material; Secured Area; Extensive deterioration

Bldg. M0020

Milan Army Ammo Plant

Milan Co: TN 38358-

Landholding Agency: Army

Property Number: 21200640065

Status: Excess

Reasons: Within 2000 ft. of flammable or explosive material; Secured Area; Extensive deterioration

Bldg. N0053

Milan Army Ammo Plant

Milan Co: TN 38358-

Landholding Agency: Army

Property Number: 21200640066

Status: Excess

Reasons: Within 2000 ft. of flammable or explosive material; Secured Area; Extensive deterioration

Bldg. Y0100

Milan Army Ammo Plant

Milan Co: TN 38358-

Landholding Agency: Army

Property Number: 21200640067

Status: Excess

Reasons: Within 2000 ft. of flammable or explosive material; Secured Area; Extensive deterioration

Bldg. K0315

Milan Army Ammo Plant

Milan Co: TN 38358-

Landholding Agency: Army

Property Number: 21200640068

Status: Excess

Reasons: Within 2000 ft. of flammable or explosive material; Secured Area; Extensive deterioration

Bldgs. D-3, J-5

Holston Army Ammo Plant

Kingsport Co: TN 37660-

Landholding Agency: Army

Property Number: 21200640069

Status: Unutilized

Reasons: Within 2000 ft. of flammable or explosive material; Secured Area

Bldg. H-8

Holston Army Ammo Plant

Kingsport Co: TN 37660-

Landholding Agency: Army

Property Number: 21200640070

Status: Unutilized

Reasons: Within 2000 ft. of flammable or explosive material; Secured Area; Extensive deterioration

Bldgs. 136, 148

Holston Army Ammo Plant

Kingsport Co: TN 37660-

Landholding Agency: Army

Property Number: 21200640071

Status: Unutilized

Reasons: Within 2000 ft. of flammable or explosive material; Secured Area;

Bldgs. 318, 342

Holston Army Ammo Plant

Kingsport Co: TN 37660-

Landholding Agency: Army

Property Number: 21200640072

Status: Unutilized

Reasons: Within 2000 ft. of flammable or explosive material; Secured Area

Texas

Bldgs. 1177, 1178, 1179

Fort Bliss

El Paso Co: TX 79916-

Landholding Agency: Army

Property Number: 21200640073

Status: Unutilized

Reason: Extensive deterioration

Bldgs. 1270, 1275

Fort Bliss

El Paso Co: TX 79916-

Landholding Agency: Army

Property Number: 21200640074

Status: Unutilized

Reason: Extensive deterioration

Bldgs. 1276, 1277

Fort Bliss

El Paso Co: TX 79916-

Landholding Agency: Army

Property Number: 21200640075

Status: Unutilized

Reason: Extensive deterioration

Utah

Bldg. 01245

Tooele Army Depot

Tooele Co: UT 84074-

Landholding Agency: Army

Property Number: 21200640076

Status: Unutilized

Reasons: Within 2000 ft. of flammable or explosive material; Secured Area Extensive deterioration

Virginia

Bldgs. 6269, 6272

Fort Lee

Ft. Lee Co: Prince George VA 23801-

Landholding Agency: Army

Property Number: 21200640077

Status: Unutilized

Reason: Extensive deterioration

Bldgs. 8043, 8050

Fort Lee

Ft. Lee Co: Prince George VA 23801-

Landholding Agency: Army

Property Number: 21200640078

Status: Unutilized

Reason: Extensive deterioration

Bldgs. 08530, 08531

Fort Lee

Ft. Lee Co: Prince George VA 23801-

Landholding Agency: Army

Property Number: 21200640079

Status: Unutilized

Reason: Extensive deterioration

Bldg. 11540

Fort Lee

Ft. Lee Co: Prince George VA 23801-

Landholding Agency: Army

Property Number: 21200640080

Status: Unutilized

Reason: Extensive deterioration

Bldg. 0631

Fort Belvoir

Ft. Belvoir Co: VA 22060-

Landholding Agency: Army

Property Number: 21200640081

Status: Unutilized

Reasons: Secured Area Extensive deterioration

Bldgs. 3065, 3066

Fort Belvoir

Ft. Belvoir Co: VA 22060-

Landholding Agency: Army

Property Number: 21200640082

Status: Unutilized;

Reasons: Secured Area Extensive deterioration

Bldgs. 3067, 3068

Fort Belvoir

Ft. Belvoir Co: VA 22060-

Landholding Agency: Army

Property Number: 21200640083

Status: Unutilized

Reasons: Secured Area Extensive deterioration

Bldgs. 3069, 3070

Fort Belvoir

Ft. Belvoir Co: VA 22060-

Landholding Agency: Army

Property Number: 21200640084

Status: Unutilized

Reasons: Secured Area Extensive deterioration

Bldgs. 3071, 3086

Fort Belvoir

Ft. Belvoir Co: VA 22060-

Landholding Agency: Army

Property Number: 21200640085

Status: Unutilized

Reasons: Secured Area Extensive deterioration

Bldgs. 3087, 3099

Fort Belvoir

Ft. Belvoir Co: VA 22060-

Landholding Agency: Army

Property Number: 21200640086

Status: Unutilized

Reasons: Secured Area Extensive deterioration

4 Bldgs.

Philpott Project

Bassett Co: VA -

Landholding Agency: COE

Property Number: 31200640017

Status: Unutilized

Reason: Extensive deterioration

Storage Bldg.

JHK-17552

John H. Kerr Project

Boydton Co: VA -

Landholding Agency: COE

Property Number: 31200640018

Status: Unutilized

Reason: Extensive deterioration

Bldgs. JHK17555, JHK19675

John H. Kerr Project

Boydton Co: VA -

Landholding Agency: COE

Property Number: 31200640019

Status: Unutilized

Reason: Extensive deterioration

Washington

Bldg. 02080

Fort Lewis

Pierce Co: WA 98433-

Landholding Agency: Army

Property Number: 21200640087

Status: Unutilized

Reason: Extensive deterioration

Bldgs. 03448, 03449

Fort Lewis

Pierce Co: WA 98433-

Landholding Agency: Army

Property Number: 21200640088

Status: Unutilized

Reason: Extensive deterioration

Bldgs. 03452, 03458

Fort Lewis

Pierce Co: WA 98433-

Landholding Agency: Army

Property Number: 21200640089

Status: Unutilized

Reason: Extensive deterioration

Bldgs. 03697, 03698

Fort Lewis

Pierce Co: WA 98433-

Landholding Agency: Army

Property Number: 21200640090

Status: Unutilized

Reason: Extensive deterioration

West Virginia

CELRH-OR-BLN

Hinton Co: WV 25951-

Landholding Agency: COE

Property Number: 31200640020

Status: Unutilized

Reason: Secured Area

[FR Doc. E6-19300 Filed 11-16-06; 8:45 am]

BILLING CODE 4210-67-P